DEPARTMENT OF ENERGY

Federal Energy Regulatory Commission

Notice of Amended Application for the St. Anthony Falls Project and Extension of Time for Comments, Recommendations, Terms and Conditions, and Prescriptions

January 11, 2002.

Correction

In notice document 02-1230 beginning on page 2431 in the issue of Thursday, January 17, 2002, make the following correction:

On page 2431, in the third column, under “j. Deadline Date”, “March 18, 2002” should read “60 days from date of issuance of this notice”.

[FR Doc. C2-1230 Filed 4-11-02; 8:45 am]

BILLING CODE 1505-01-D

SECURITIES AND EXCHANGE COMMISSION

[Release No. 34-45654; File No. S7-17-00]

Order Granting Temporary Exemption for Broker-Dealers from the Trade-Through Disclosure Rule

March 27, 2002.

Correction

In notice document 02-7902 appearing on page 15637, in the issue of Tuesday, April 2, 2002, make the following correction:

On page 15637, in the second column, the subject heading is corrected to read as set forth above.

[FR Doc. C2-7902 Filed 4-11-02; 8:45 am]

BILLING CODE 1505-01-D

DEPARTMENT OF TRANSPORTATION

Federal Aviation Administration

14 CFR Part 71

[Airspace Docket No. 02-AGL-01]

Proposed Establishment of Class D Airspace, Proposed Modification of Class E Airspace, Marquette, MI

Correction

In proposed rule document 02-7853 beginning on page 15502 in the issue of Tuesday, April 2, 2002, make the following corrections:

1. On page 15502, in the first column, under the SUMMARY: heading, in the 11th line, “carriers” should read “carrier”.

§ 71.1 [Corrected]

2. On page 15503, in the first column, § 71.1, under the heading, AGL MI D Marquette, MI [New], in the fourth line, “the” should read “and”.

3. On page 15503, in the first column, § 71.1, the heading, “Paragraph 6002 Class D airspace areas extending upward from the surface of the earth.” should read “ Paragraph 6002 Class E airspace areas extending upward from the surface of the earth.”.

[FR Doc. C2-7853 Filed 4-11-02; 8:45 am]

BILLING CODE 1505-01-D

DEPARTMENT OF TRANSPORTATION

Federal Aviation Administration

14 CFR Part 71

[Airspace Docket No. 01-AGL-08]

Modification of Class E Airspace; Frankfort, MI

Correction

In rule document 02-7856 appearing on page 15479, in the issue of Tuesday, April 2, 2002, make the following correction:

§ 71.1 [Corrected]

On page 15479, in the third column, § 71.1, the heading “AGL MI E5 Frankford, MI [Revised]” should read “AGL MI E5 Frankfort, MI [Revised]”.

[FR Doc. C2-7856 Filed 4-11-02; 8:45 am]

BILLING CODE 1505-01-D